DEPARTMENT OF HOUSING AND URBAN DEVELOPMENT

[Docket No. 5100-FA-27A]

Announcement of Funding Awards for Fiscal Year 2007 Doctoral Dissertation Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year (FY) 2007 Doctoral Dissertation Research Grant (DDRG) Program. The purpose of this document is to announce the names and addresses of the award winners and the amount of the awards to be used to help doctoral candidates complete dissertations on topics that focus on housing and urban development issues.

FOR FURTHER INFORMATION CONTACT: Susan Brunson, Office of University Partnerships, U.S. Department of Housing and Urban Development, Room 8106, 451 Seventh Street, SW., Washington, DC 20410, telephone (202) 402-3852. To provide service for persons who are hearing-or speech-impaired, this number may be reached via TTY by Dialing the Federal Information Relay Service on (800) 877-8339 or (202) 708-1455. (Telephone numbers, other than “800” TTY numbers, are not toll free).

SUPPLEMENTARY INFORMATION: The DDRG Program was created as a means of expanding the number of researchers conducting research on subjects of interest to HUD. Doctoral candidates can receive grants of up to $25,000 to complete work on their dissertations. Grants are awarded for a two-year period.

The Office of University Partnerships under the Assistant Secretary for Policy Development and Research (PD&R) administers this program. In addition to this program, the Office of University Partnerships administers HUD's ongoing grant programs to institutions of higher education as well as creates initiatives through which colleges and universities can bring their traditional missions of teaching, research, service, and outreach to bear on the pressing local problems in their communities.

The Catalog of Federal Domestic Assistance number for this program is 14.517.

May 13, 2007, (72 FR 11758), HUD published a Notice of Funding Availability (NOFA) announcing the availability of $300,000 in FY 2007 funds for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545). More information about the winners can be found at http://www.oup.org.

List of Awardees for Grant Assistance Under the Fiscal Year (FY) 2007 Doctoral Dissertation Reseach Grant Program Funding Competition, by Institution, Address, Grant Amount and Name of Student Funded

1. University of Illinois-Urbana Champaign, Kathy Young, University of Illinois-Urbana Champaign, Urban and Regional Planning, 1901 South First Street, Suite A, Office of Sponsored Programs and Research Administration, Champaign, IL 61820-7406. Grant: $24,957 to Julia Koschinsky

2. The Trustee of Indiana University, Robert Robinson, The Trustee of Indiana University, Department of Sociology, P.O. Box 1847, Bloomington, IN 47402-1847. Grant: $24,842 to Evelyn Perry

3. North Carolina State University, Matt Ronning, North Carolina State University, Department of Public and International Affairs, 2701 Sullivan Drive, Administration Services III MS7514, Raleigh, NC 27695-7514. Grant: $25,000 to Charles Reiss

4. Northwestern University, Susan Ross, Northwestern University, Office for Sponsored Research, 633 Clark Street, Evanston, IL 60208-1110. Grant: $23,796 to Anita Zuberi

5. Princeton University, Sally Waltman, Princeton University, Department of Sociology, P.O. Box 36, 4 New South Building, Princeton, NJ 08544. Grant: $22,220 to Debbie Becher

6. University of Wisconsin-Madison, Diane Barrett, University of Wisconsin-Madison, Department of Sociology, 21 North Park Street, Suite 6401, Madison, WI 53715-1218. Grant: $25,000 to Matthew Desmond

7. University of Wisconsin-Madison, Dr. Lewis Friedland, University of Wisconsin-Madison, Department of Journalism/Mass Communication, 21 North Park Street, Suite 6401, Madison, WI 53715-1218. Grant: $25,000 to Yong Jun Shin

8. Temple University, Roseanne Wallin, Temple University, Department of History, Room 406 USB, 1601 North Broad Street, Philadelphia, PA 19122. Grant: $25,000 to Charles Nier

9. Portland State University, William Helseley, Portland State University, Institute of Aging, P.O. Box 751 (ORSD), Portland, OR 97207. Grant: $25,000 to Andree Tremoulet

10. The Trustee of Columbia University, Daniel Calto, The Trustee of Columbia University, 1210 Amsterdam Avenue, Mail Code 2205, New York, NY 10027-6902. Grant: $25,000 to David Madden

11. Ohio State University Research Foundation, Laurie Rosenberg, Ohio State University Research Foundation, Sponsored Program, 1960 Kenny Road, Columbus, OH 43210. Grant: $24,968 to Diana Karafin

12. University of Texas at Austin, Dr. Susan Sedwick, University of Texas at Austin, Office of Sponsored Projects, P.O. Box 7726, Austin, TX 78713-7726. Grant: $25,000 to Jenna Tighe

Dated: October 9, 2007.
Darlene F. Williams,
Assistant Secretary for Policy Development and Research.

[FR Doc. E7-20695 Filed 10-19-07; 8:45 am]

BILLING CODE 4210-67-P